DEPARTMENT OF THE INTERIOR

Bureau of Land Management

[LLOR936000-14300000-ET0000; HAG-11-0195; OROR-16124]

Public Land Order No. 7774; Extension of Public Land Order No. 6868; Oregon

AGENCY: Bureau of Land Management, Interior.

ACTION: Public Land Order.

SUMMARY: This order extends the duration of the withdrawal created by Public Land Order No. 6868 for an additional 20-year period. The extension is necessary to continue protection of the major anadromous fish spawning beds at the Steamboat Creek Tributaries Streamside Zone and Steamboat Creek Roadside and Streamside Zones.

DATES: Effective Date: August 14, 2011.

FOR FURTHER INFORMATION CONTACT: Charles R. Roy, Bureau of Land Management, Oregon/Washington State Office, 503-808-6189, or Dianne Torpin, United States Forest Service, Pacific Northwest Region, 503-808-2422. Persons who use a telecommunications device for the deaf (TDD) may call the Federal Information Relay Service (FIRS) at 1-800-877-8339 to reach the BLM contact during normal business hours. The FIRS is available 24 hours a day, 7 days a week, to leave a message or question with the above individual. You will receive a reply during normal business hours.

SUPPLEMENTARY INFORMATION: The purpose for which the withdrawal was first made requires this extension to continue protection of the major anadromous fish spawning beds at the Steamboat Creek Tributaries Streamside Zone and Steamboat Creek Roadside and Streamside Zones. The withdrawal extended by this order will expire on August 13, 2031, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6868 (56 FR 40263 (1991)), which withdrew approximately 2,400 acres of National Forest System land from location and entry under the United States mining laws (30 U.S.C. chapter 2), but not from leasing under the mineral leasing laws, to protect the Steamboat Creek Tributaries Streamside Zone and Steamboat Creek Roadside and Streamside Zones, is hereby extended for an additional 20-year period until August 13, 2031.

Authority: 43 CFR 2310.4.

Dated: August 11, 2011.
Rhea S. Suh,
Assistant Secretary—Policy, Management and Budget.

[FR Doc. 2011-21301 Filed 8-19-11; 8:45 am]

BILLING CODE 3410-11-P